DEPARTMENT OF ENERGY

Federal Energy Regulatory Commission

[Docket No. CP02-44-000, Docket No. CP02-46-000, and Docket No. CP02-53-000]

Dominion Transmission, Inc., Tennessee Gas Pipeline Company, National Fuel Gas Supply Corporation Dominion Transmission, Inc.; Notice of Intent To Prepare an Environmental Assessment for the Leidy Extension Project and Request for Comments on Environmental Issues

January 15, 2002.

The staff of the Federal Energy Regulatory Commission (FERC or Commission) will prepare an environmental assessment (EA) that will discuss the environmental impacts of the Leidy Extension Project in Potter County, Pennsylvania involving construction and operation of natural gas pipeline facilities. Dominion Transmission, Inc. (Dominion), proposes to add compression under Docket No. CP02-44-000. Tennessee Gas Pipeline Company (Tennessee) proposes to build the Ellisburg Compressor Station under Docket No. CP02-46-000. National Fuel Gas Supply Corporation (National) and Dominion propose to add compression and uprate their jointly-owned Ellisburg-Leidy Line under Docket No. CP02-53-000.¹ This EA will be used by the Commission in its decision-making process to determine whether the projects ² are in the public convenience and necessity.

¹ Tennessee's, National's, and Dominion's applications were filed with the Commission under section 7 of the Natural Gas Act and part 157 of the Commission's regulations.

² These three component projects of the overall Leidy Extension Project would together comprise the facility expansions and upgrades in Potter County necessary for the shipment of an additional 150,000 dekatherms per day (Dt/d) of natural gas to the Leidy Meter and Regulating Station in Clinton County, Pennsylvania.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” addresses a number of typically asked questions, including the use of eminent domain and how to participate in the Commission's proceedings. This fact sheet can be viewed on the FERC Internet web site (www.ferc.fed.us).

Summary of the Proposed Project

Dominion, under Docket No. CP02-44-000, proposes to build a 4,735-horsepower (hp) relay compressor, along with an associated building and access driveway, inside the fenced-in area of its existing Little Greenlick Relay Station. The Little Greenlick Relay Station is immediately adjacent to the Greenlick Compressor Station containing four existing compressors.

Tennessee, under Docket No. CP02-46-000, proposes to build a new Ellisburg Compressor Station and associated meter station. This compressor station would be built on newly acquired property immediately adjacent to the Dominion's existing Ellisburg Storage Field Compressor Station. The Ellisburg Compressor Station would include two gas-driven 2,365-hp compressors and an associated compressor building, gas cooler, and an auxiliary building. Tennessee would construct the meter station in a previously-disturbed fenced-in area within Dominion's Ellisburg Storage Field Compressor Station.

National, under Docket No. CP02-53-000, proposes to build an 8,070-hp compressor and an associated building in a previously-disturbed fenced-in area within National's Ellisburg Compressor Station. National and Dominion would jointly own this compressor. National would also uprate the maximum allowable operating pressure (MAOP) of their jointly-owned 41-mile-long, 24-inch-diameter Ellisburg-Leidy Line by replacing two block valves and installing one new block valve at milepost (MP) 1.3. The two block valves to be modified are at MP 0.0 inside National's Ellisburg Compressor Station and at MP 34.2 at Kettle Creek. Dominion would make aboveground modifications to the Leidy M&R Station (owned jointly with National) at the southern end of the Ellisburg-Leidy Line separately under sections 2.55(a) and 157.211 of the Commission's regulations.

The locations of the facilities for the Leidy Extension Project are shown in appendix 1.³

³ The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

Land Requirements for Construction

Construction of the 4,735-hp relay compressor in the Little Greenlick Relay Station would require 5.24 acres of previously-disturbed land within the station. Construction of two gas-driven 2,365-hp compressors for the proposed Ellisburg Compressor Station would require 5.16 acres of which 2.27 acres would be restored and allowed to revert to its former use following construction. A small area of previously-disturbed ground within Dominion's adjacent Ellisburg Storage Field Compressor Station would be required for construction of a new meter station. In addition, 0.5 acre would be used for access roads along the Ellisburg Storage Field Compressor Station.

Construction of the 8,070-hp compressor and an associated building would require use of a previously-disturbed fenced-in area within National's Ellisburg Compressor Station. Uprating the MAOP of the 41-mile-long Ellisburg-Leidy Pipeline would require temporary use of 0.11 acre of existing mowed right-of-way at MP 1.33 of the Ellisburg-Leidy Pipeline for installation of a new block valve. No ground disturbance would be required for the modification of the two block valves at MPs 0.0 and 34.2.

The EA Process

The National Environmental Policy Act (NEPA) requires the Commission to take into account the environmental impacts that could result from an action whenever it considers the issuance of a Certificate of Public Convenience and Necessity. NEPA also requires us ⁴ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

⁴ ”We”, “us”, and “our” refer to the environmental staff of the Office of Energy Projects (OEP).

The EA will discuss impacts that could occur as a result of the construction and operation of the proposed project under these general headings:

• Geology and soils

• Water resources, fisheries, and wetlands

• Vegetation and wildlife

• Endangered and threatened species

• Public safety

• Land use

• Cultural resources

• Air and noise quality

• Hazardous waste

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Tennessee, National and Dominion. This preliminary list of issues may be changed based on your comments and our analysis.

• Impacts to Rose Lake Run from (1) the clearing of 5.16 acres of vegetation and from disturbance of a hazardous waste remediation site adjacent to Tennessee's proposed Ellisburg Compressor Station, and (2) construction activities at National's Ellisburg Compressor Station within which Rose Lake Run crosses.

• Noise increases for noise sensitive areas near Tennessee's proposed Ellisburg Compressor Station.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

Send an original and two copies of your letter to: Linwood A. Watson, Jr., Acting Secretary, Federal Energy Regulatory Commission, 888 First St., NE., Room 1A, Washington, DC 20426.

• Label one copy of the comments for the attention of Gas 2.

• Reference Docket Nos. CP02-44-000, CP02-46-000, and CP02-53-000.

• Mail your comments so that they will be received in Washington, DC on or before February 15, 2002.

Comments, protests and interventions may be filed electronically via the Internet in lieu of paper. See, 18 CFR 385.2001(a)(1)(iii) and the instructions on the Commission's web site at http://www.ferc.gov under the “e-Filing” link and link to the User's Guide. Before you can file comments you will need to create an account which can be created by clicking on “Login to File” and then “New User Account.”

Due to current events, we cannot guarantee that we will receive mail on a timely basis from the U.S. Postal Service, and we do not know how long this situation will continue. However, we continue to receive filings from private mail delivery services, including messenger services in a reliable manner. The Commission encourages electronic filing of any comments or interventions or protests to this proceeding. We will include all comments that we receive within a reasonable time frame in our environmental analysis of this project.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to rule 214 of the Commission's rules of practice and procedure (18 CFR 385.214) (see appendix 2).⁵ Only intervenors have the right to seek rehearing of the Commission's decision.

⁵ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC web site (www.ferc.fed.us) using the “RIMS” link to information in this docket number. Click on the “RIMS” link, select “Docket #” from the RIMS Menu, and follow the instructions. For assistance with access to RIMS, the RIMS help line can be reached at (202) 208-2222.

Similarly, the “CIPS” link on the FERC Internet website provides access to the texts of formal documents issued by the Commission, such as orders, notices, and rulemakings. From the FERC Internet web site, click on the “CIPS” link, select “Docket #” from the CIPS menu, and follow the instructions. For assistance with access to CIPS, the CIPS help line can be reached at (202) 208-2474.

Linwood A. Watson, Jr.,
Acting Secretary.

[FR Doc. 02-1463 Filed 1-18-02; 8:45 am]

BILLING CODE 6717-01-P